DEPARTMENT OF COMMERCE

International Trade Administration

[A-201-809]

Certain Cut-to-length Carbon Steel Plate From Mexico: Final Results of Antidumping Duty Administrative Review

AGENCY: Import Administration, International Trade Administration, Department of Commerce.

ACTION: Notice of final results of antidumping duty administrative review.

SUMMARY: The Department of Commerce (the Department) has conducted an administrative review of the antidumping duty order on certain cut-to-length carbon steel plate (steel plate) from Mexico (A-201-809) manufactured by Altos Hornos de Mexico, S.A. de C.V. (AHMSA). The period of review (POR) is August 1, 2000, through July 31, 2001. We determine that AHMSA made no sales of steel plate below the normal value (NV). We will instruct the U.S. Customs Service to assess no antidumping duties on AHMSA's entries.

EFFECTIVE DATE: March 19, 2003.

FOR FURTHER INFORMATION CONTACT: Thomas Killiam, Mike Heaney, or Robert James, AD/CVD Enforcement, Group III, Import Administration, International Trade Administration, U.S. Department of Commerce, 14th Street and Constitution Avenue, NW., Washington, DC. 20230, telephone: (202) 482-5222, (202) 482-4475, or (202) 482-0649, respectively.

SUPPLEMENTARY INFORMATION:

Background

On September 13, 2002, the Department of Commerce (the Department) published in the Federal Register the preliminary results of the administrative review of the antidumping duty order, and invited parties to comment. See Preliminary Results of Antidumping Duty Administrative Review: Certain Cut-to-Length Carbon Steel Plate From Mexico, 67 FR 58015 (September 13, 2002) (Preliminary Results). Subsequently, we published a Notice of Extension of Time Limit for Final Results in Antidumping Duty Administrative Review, 67 FR 68833 (November 13, 2002). We verified the sales information submitted by AHMSA. Our verification findings are outlined in the verification report in the case file: see Memorandum For: The File, “Verification of the sales and cost data submitted by Alto Hornos de Mexico S.A. de C.V. (AHMSA) from Mexico,” January 7, 2003. AHMSA submitted a case brief on January 22, 2003. The petitioners submitted a rebuttal brief on January 29, 2003.

Scope of the Review

The products covered in this review include hot-rolled carbon steel universal mill plates (i.e., flat-rolled products rolled on four faces or in a closed box pass, of a width exceeding 150 millimeters but not exceeding 1,250 millimeters and of a thickness of not less than 4 millimeters, not in coil and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the Harmonized Tariff Schedule (HTS) under item numbers 7208.31.0000, 7208.32.0000, 7208.33.1000, 7208.33.5000, 7208.41.0000, 7208.42.0000, 7208.43.0000, 7208.90.0000, 7210.70.3000, 7210.90.9000, 7211.11.0000, 7211.12.0000, 7211.21.0000, 7211.22.0045, 7211.90.0000, 7212.40.1000, 7212.40.5000, and 7212.50.0000. Included in this review are flat-rolled products of non-rectangular cross-section where such cross-section is achieved subsequent to the rolling process products which have been “worked after rolling”); for example, products which have been beveled or rounded at the edges. Excluded from this review is grade X-70 plate.

These HTS item numbers are provided for convenience and U.S. Customs purposes. The written descriptions remain dispositive.

Analysis of Comments Received

The issues raised by the parties in the case brief and the rebuttal brief are listed in the Appendix to this notice and are addressed in the “Issues and Decision Memorandum” (Decision Memorandum) from Barbara E. Tillman, Acting Deputy Assistant Secretary, to Joseph A. Spetrini, Acting Assistant Secretary, dated March 12, 2003, which is hereby adopted by this notice, and on file in Import Administration's Central Records Unit, Room B-099 of the main Department of Commerce Building. The Decision Memorandum can be accessed directly from the Internet at http://ia.ita.doc.gov. The paper and electronic versions of the Decision Memorandum are identical in content.

Changes Since the Preliminary Results

Based on our analysis of the comments received, we have revised the interest expense ratios for AHMSA. See the Decision Memorandum.

Final Results of Review

We determine that the following percentage weighted-average margins exist for the period August 1, 2000, through July 31, 2001:

Certain Cut-to-Length Carbon Steel Plate From Mexico
Producer/manufacturer/exporter | Weighted-average margin (percent)
AHMSA | 0

Assessment Rates

The Department will determine, and the Customs Service shall assess, zero antidumping duties on all appropriate entries. In accordance with 19 CFR 351.212(b)(1), we have calculated a customer-specific assessment rate for merchandise subject to this review. The Department will issue appropriate assessment instructions directly to the Customs Service within 15 days of publication of these final results of review. We will direct the Customs Service to assess the resulting zero assessment rates against the entered, customs values for the subject merchandise on customer's entries during the review period.

Cash Deposit Rates

In addition, the following deposit requirements will be effective upon publication of this notice for all shipments of steel plate from Mexico entered or withdrawn from warehouse, for consumption on or after the date of publication, as provided by section 751(a)(1) of the Tariff Act: (1) For the company reviewed, the cash deposit rate will be the rate listed above, (2) for merchandise exported by manufacturers or exporters not covered in this review but covered in a previous segment of this proceeding, the cash deposit rate will continue to be the company-specific rate published in the most recent final results in which that manufacturer or exporter participated; (3) if the exporter is not a firm covered in this review or in any previous segment of this proceeding, but the manufacturer is, the cash deposit rate will be that established for the manufacturer of the merchandise in these final results of review or in the most recent segment of the proceeding in which that manufacturer participated; and (4) if neither the exporter nor the manufacturer is a firm covered in this review or in any previous segment of this proceeding, the cash deposit rate will be 49.25 percent, the “all others” rate established in the LTFV investigation (58 FR 44165, August 19, 1993). These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

This notice also serves as the only reminder to parties subject to administrative protective order (APO) of their responsibility concerning the disposition of proprietary information disclosed under APO in accordance with 19 CFR 351.305(a)(3). Timely notification of return/destruction of APO materials or conversion to judicial protective order is hereby requested. Failure to comply with the regulations and the terms of an APO is a sanctionable violation.

We are issuing and publishing this determination in accordance with sections 751(a)(1) and 777(i)(1) of the Tariff Act, and 19 CFR 351.214.

Dated: March 12, 2003.
Joseph A. Spetrini,
Acting Assistant Secretary for Import Administration.

Appendix—Issues in Decision Memorandum

1. Gain on Monetary Position in Financial Expense Ratio.

2. Debt Default.

3. Product Specifications Error in the Model Match.

4. Net Price Calculation Errors.

5. Billing Adjustments and Packing Costs in Selling Expenses Calculation.

6. Plate-cutting Fees Excluded from Selling Expenses.

[FR Doc. 03-6479 Filed 3-18-03; 8:45 am]

BILLING CODE 3510-DS-P